DEPARTMENT OF COMMERCE

National Oceanic and Atmospheric Administration

50 CFR Part 622

[Docket No. 110103005-1005-01]

RIN 0648-BA48

Fisheries of the Caribbean, Gulf of Mexico, and South Atlantic; Reef Fish Fishery of the Gulf of Mexico; Greater Amberjack Management Measures

AGENCY: National Marine Fisheries Service (NMFS), National Oceanic and Atmospheric Administration (NOAA), Commerce.

ACTION: Proposed rule; reopening of comment period.

SUMMARY: NMFS is reopening the comment period to provide additional opportunity for public comment on the proposed rule that would implement a seasonal closure for the Gulf of Mexico (Gulf) greater amberjack recreational sector. The reopening of the comment period is to ensure that the public fully understands the intent of the greater amberjack regulatory amendment. NMFS is reopening the comment period for the proposed rule on March 10, 2011 and it will remain open through March 25, 2011. The intended effect of the proposed rule is to mitigate the social and economic impacts associated with implementing in-season closures.

DATES: The comment period for the proposed rule that published on January 24, 2011 (76 FR 4084), and closed on February 23, 2011, will reopen on March 10, 2011 and remain open through March 25, 2011.

ADDRESSES: You may submit comments on the proposed rule identified by 0648-BA48 by any of the following methods:

• Electronic submissions: Submit electronic comments via the Federal e-Rulemaking Portal: http://www.regulations.gov. Follow the instructions for submitting comments.

• Mail: Rich Malinowski, Southeast Regional Office, NMFS, 263 13th Avenue, South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-rulemaking portal: http://www.regulations.gov, enter “NOAA-NMFS-2010-0281” in the keyword search, then check the box labeled “Select to find documents accepting comments or submissions”, then select “Send a comment or submission”. NMFS will accept anonymous comments (enter N/A in the required field if you wish to remain anonymous). You may submit attachments to electronic comments in Microsoft Word, Excel, WordPerfect, or Adobe PDF file formats only.

Comments received through means not specified in this proposed rule will not be considered.

Copies of the regulatory amendment, which includes an environmental assessment (EA), an initial regulatory flexibility analysis (IRFA), and a regulatory impact review, may be obtained from the Gulf of Mexico Fishery Management Council, 2203 North Lois Avenue, Suite 1100, Tampa, FL 33607; telephone 813-348-1630; fax 813-348-1711; e-mail gulfcouncil@gulfcouncil.org; or may be downloaded from the Council's Web site at: http://www.gulfcouncil.org/.

FOR FURTHER INFORMATION CONTACT: Rich Malinowski, 727-824-5305; fax: 727-824-5308.

SUPPLEMENTARY INFORMATION: The reef fish fishery of the Gulf of Mexico is managed under the FMP. The FMP was prepared by the Council and is implemented through regulations at 50 CFR part 622 under the authority of the Magnuson-Stevens Fishery Conservation and Management Act (Magnuson-Stevens Act).

On January 24, 2011 (76 FR 4084), NMFS published a proposed rule to establish a 2-month seasonal closure of the recreational sector for greater amberjack within the Gulf reef fish fishery. Harvest and possession of recreational greater amberjack would be prohibited in or from the Gulf EEZ during the months of June and July each year. The establishment of a recreational seasonal closure is intended to mitigate the social and economic impacts associated with implementing in-season closures.

Based on many of the comments received on the proposed rule, it appears to NMFS that the intent of the proposed action was not completely understood by the public. A number of commenters seem to have the understanding that the intent of the recreational seasonal closure is to reduce recreational harvest. In actuality, the proposed recreational seasonal closure occurs during a peak time for greater amberjack fishing, and is therefore projected to allow the recreational sector to be open during the remainder of the fishing year, without the necessity for additional in-season quota closures or implementation of accountability measures. Many for-hire operators indicated to the Council that the summer recreational seasonal closure was a preferred closure alternative since it would allow the for-hire industry to market greater amberjack as a trophy fish during the months their preferred target species of red snapper was unavailable.

NMFS specifically invites public comment on the clarification of the intent of the greater amberjack recreational seasonal closure. Additionally, the reef fish for-hire industry has requested a reopening of the comment period to allow industry additional time to submit comments. Therefore, NMFS will reopen the public comment period on the proposed rule on March 10, 2011 and it will remain open through March 25, 2011.

Authority: 16 U.S.C. 1801 et seq.

Dated: March 4, 2011.
Samuel D. Rauch III,
Deputy Assistant Administrator for Regulatory Programs, National Marine Fisheries Service.

[FR Doc. 2011-5521 Filed 3-9-11; 8:45 am]

BILLING CODE 3510-22-P